DEPARTMENT OF COMMERCE

International Trade Administration

[A-533-810]

Stainless Steel Bar from India: Notice of Extension of Time Limit for the Preliminary Results of the 2006 New Shipper Review

AGENCY: Import Administration, International Trade Administration, Commerce.

EFFECTIVE DATE: March 5, 2007.

FOR FURTHER INFORMATION CONTACT: Devta Ohri or Brandon Farlander, AD/CVD Operations, Office 1, Import Administration, International Trade Administration, U.S. Department of Commerce, 14th Street and Constitution Avenue, NW, Washington, DC 20230, telephone (202) 482-3853 or (202) 482-0182, respectively.

SUPPLEMENTARY INFORMATION:

Statutory Time Limits

Section 751(a)(2)(B)(iv) of the Tariff Act of 1930, as amended (the Act) and section 351.214(i)(1) of the Department of Commerce's (Department) regulations require the Department to issue the preliminary results of a new shipper review within 180 days after the date on which the new shipper review was initiated, and the final results of review within 90 days after the date on which the preliminary results were issued. However, if the Department determines that the issues are extraordinarily complicated, section 751(a)(2)(B)(iv) of the Act and section 351.214(i)(2) of the Department's regulations allow the Department to extend the deadline for the preliminary results to up to 300 days after the date on which the new shipper review was initiated.

Background

On September 26, 2006, the Department published a notice of initiation of a new shipper review of the antidumping duty order on stainless steel bar from India for Ambica Steels Limited (Ambica), covering the period February 1, 2006 through July 31, 2006. See Stainless Steel Bar from India: Notice of Initiation of Antidumping Duty New Shipper Review, 71 FR 56105 (September 26, 2006). On January 24, 2007, the Department initiated a cost investigation of Ambica. The preliminary results for this review are currently due no later than March 19, 2007.

Extension of Time Limits for Preliminary Results

Pursuant to section 751(a)(2)(B)(iv) of the Act, the Department may extend the deadline for completion of the preliminary results of a new shipper review if it determines that the case is extraordinarily complicated. Because the Department needs additional time to evaluate Ambica's recently submitted cost information, examine sales issues, such as product grade hierarchy, and to issue additional supplemental questionnaires, the Department has determined that this review is extraordinarily complicated, and the preliminary results of this new shipper review cannot be completed within the statutory time limit of 180 days. Therefore, in accordance with section 751(a)(2)(B)(iv) of the Act and section 351.214(i)(2) of the regulations, the Department is extending the time limit for the completion of the preliminary results by 120 days until no later than July 17, 2007.

This notice is published pursuant to sections 751(a)(2)(B)(iv) and 777(i)(1) of the Act.

Dated: February 27, 2007.
Stephen J. Claeys,
Deputy Assistant Secretary for Import Administration.

[FR Doc. E7-3796 Filed 3-2-07; 8:45 am]

BILLING CODE 3510-DS-S